RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Statement Regarding Contributions and Support of Children, RRB Form G-139 Section 2(d)(4) of the Railroad Retirement Act (RRA), provides, in part, that a child is deemed dependent if the conditions set forth in Section 202(d)(3), (4) and (9) of the Social Security Act are met. In accordance with amendments to the Social Security Act (section 104 of Public Law 104-21) the RRB amended its regulations to eliminate to “living-with” requirement (as an alternative to actual dependency) as a basis for eligibility for an annuity as the stepchild of a railroad employee, and also to provide for the termination of the inclusion of a stepchild in the computation of the social security overall minimum guarantee provision when the stepparent's marriage to the natural parent is terminated.

The regulations outlining child support and dependency requirements are prescribed in 20 CFR 222.50.

Prior to the amendments to the Social Security Act, almost all child dependency determinations were “deemed” based on a child living with the railroad employee. To determine entitlement based on actual dependency, the RRB must solicit financial information regarding a child's means of support. A comparison is then made between the amount of support received from the railroad employee and the amount received from other sources.

The RRB uses Form G-139, Statement Regarding Contributions and Support of Children, to collect information needed to adequately determine if the child meets the dependency requirement. Completion will be required to obtain a benefit. One response is required of each respondent. The RRB estimates that 500 Form G-139's will be completed annually. The completion time is estimated at 60 minutes. The RRB proposes non-burden impacting editorial changes to Form G-139.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 01-31425 Filed 12-20-01; 8:45 am]

BILLING CODE 7905-01-M